DEPARTMENT OF HOUSING AND URBAN DEVELOPMENT

[Docket No. FR-4912-N-03]

Notice of Intent To Prepare a Draft Environmental Impact Statement for the Marysville Hotel Demolition Project, City of Marysville, CA

AGENCY: Office of the Assistant Secretary for Community Planning and Development, HUD.

ACTION: Notice.

SUMMARY: The Department of Housing and Urban Development gives notice to the public, agencies, and Indian tribes that the City of Marysville, CA, intends to prepare an Environmental Impact Statement (EIS)/Environmental Impact Report (EIR) (EIS/EIR) for the Marysville Hotel Demolition Project located in Marysville, CA. The City of Marysville, CA, will prepare the EIS/EIR acting under its authority as the responsible entity for compliance with the National Environmental Policy Act (NEPA) in accordance with 42 U.S.C. 5304(g) and HUD regulations at 24 CFR 58.4, and under its authority as lead agency in accordance with the California Environmental Quality Act (CEQA). The EIS/EIR will be a joint NEPA and CEQA document. The EIR will satisfy requirements of the CEQA (Public Resources Code 21000 et seq.) and State CEQA Guidelines (14 California Code of Regulations 15000 et seq.), which require that all state and local government agencies consider the environmental consequences of projects over which they have discretionary authority before acting on those projects. Because federal Community Development Block Grant (CDBG) funds (under Title I of the Housing and Community Development Act of 1974) would be used, the proposed action is also subject to NEPA. This notice is given in accordance with the Council on Environmental Quality regulations at 40 CFR parts 1500-1508. All interested federal, state, and local agencies, Indian tribes, groups, and the public are invited to comment on the scope of the EIS.

ADDRESSES: Comments relating to the scope of the EIS are requested and will be accepted by the contact person listed below. Parties interested in receiving future notices to comment on the published Draft EIS should also notify the contact person.

FOR FURTHER INFORMATION CONTACT: Gary Price, Community Development Coordinator, City of Marysville Planning Department, P.O. Box 150, CA 95901; telephone (530) 749-3902, Fax (530) 749-3991.

SUPPLEMENTARY INFORMATION: This notice seeks public input on issues that should be addressed in the EIS/EIR and solicits input from potentially affected agencies and interested parties regarding the scope and content of the EIS/EIR. The Draft EIS/EIR will be published and distributed on or about February 17, 2004. After February 17, 2004, copies for review by the public will be available at the Yuba County Library at 303 Second Street, Marysville, CA. Copies of the document may be obtained from Copy City at 515 D Street, Marysville, phone (530) 743-8400, for the cost of reproduction.

The proposed project site is the Marysville Hotel. The Marysville Hotel is located in the central business district of downtown Marysville on an approximately .5 acre lot at the northwest corner of the block bounded by Fifth Street to the north, D Street to the east, Fourth Street to the south, and E Street to the west. The site address is 418 Fifth Street (APN: 010-176-014-000). The City's Redevelopment Plan and General Plan both call for the removal of blight from the downtown area and the redevelopment of buildings for commercial or mixed uses whenever possible. The purpose of this project is to remove a source of blight to improve the appearance of the downtown core and to redevelop the area either for parking or for mixed uses.

The following alternatives will be considered:

• Alternative 1 (the proposed action): Acquisition and Demolition. The Marysville Hotel would be acquired and demolished.

• Alternative 2: Reuse for Mixed Commercial/Residential Use. The Marysville Hotel would be refurbished for reuse with commercial and residential uses.

• Alternative 3: Reuse for Commercial/Senior Affordable Housing. The Marysville Hotel would be refurbished for reuse with commercial and senior affordable housing uses.

• No Project—No Action. No action would be taken and the hotel would remain in its current condition.

The EIS/EIR will address, among others, the following environmental issues: air quality, cultural resources, flood hazard, noise, toxics, traffic, land use and environmental justice.

Questions may be directed to the individual named in this notice under the heading FOR FURTHER INFORMATION CONTACT.

Dated: February 11, 2004.
Roy A. Bernardi,
Assistant Secretary for Community Planning and Development.

[FR Doc. 04-3760 Filed 2-20-04; 8:45 am]

BILLING CODE 4210-29-P